DEPARTMENT OF HEALTH AND HUMAN SERVICES

National Institutes of Health

Eunice Kennedy Shriver National Institute of Child Health & Human; Notice of Meeting

Pursuant to section 10(a) of the Federal Advisory Committee Act, as amended, notice is hereby given of a meeting of the National Advisory Board on Medical Rehabilitation Research.

The meeting will be open to the public, with attendance limited to space available. Individuals who plan to attend and need special assistance, such as sign language interpretation or other reasonable accommodations, should notify the Contact Person listed below in advance of the meeting.

Name of Committee: National Advisory Board on Medical Rehabilitation Research.

Date: May 6-7, 2019.

Time: May 6, 2019, 9:00 a.m. to 5:00 p.m.

Agenda: NICHD Director's report; Strategy to update the NIH Rehabilitation Research Plan; Initial Planning for the Rehabilitation Research Conference; Complementary and Integrative Health Update; Centers for Medicare and Medicaid Services Research Policies and Efforts.

Place: NICHD Offices, 6710B Rockledge Drive, Rooms 1425/1427, Bethesda, MD 20892.

Time: May 7, 2019, 9:00 a.m. to 12:00 p.m.

Agenda: Concept Clearance; Use of Secondary Data for Rehabilitation Science; Scientific Presentation on Extending the Reach of Rehabilitation Using Technology.

Place: NICHD Offices, 6710B Rockledge Drive, Rooms 1425/1427, Bethesda, MD 20892.

Contact Person: Ralph M. Nitkin, Ph.D., Deputy Director, National Center for Medical Rehabilitation Research (NCMRR), Eunice Kennedy Shriver National Institute of Child Health and Human Development, NIH, DHHS, 6710B Rockledge Drive, Room 2116, Bethesda, MD 20892-7002, (301) 402-4206, RN21e@nih.gov.

Individuals will also be able to view the meeting via NIH Videocast. Select the following link for Videocast the day of the meeting: https://videocast.nih.gov/default.asp.

Information is also available on the Institute's/Center's home page: http://www.nichd.nih.gov/about/advisory/nabmrr/Pages/index.aspx where the current roster and minutes from past meetings are posted.

(Catalogue of Federal Domestic Assistance Program Nos. 93.864, Population Research; 93.865, Research for Mothers and Children; 93.929, Center for Medical Rehabilitation Research; 93.209, Contraception and Infertility Loan Repayment Program, National Institutes of Health, HHS)

Dated: April 8, 2019.
Ronald J. Livingston, Jr.,
Program Analyst, Office of Federal Advisory Committee Policy.

[FR Doc. 2019-07182 Filed 4-10-19; 8:45 am]

BILLING CODE 4140-01-P